DEPARTMENT OF HOMELAND SECURITY

Coast Guard

46 CFR Parts 2, 24, 30, 70, 90, 91, and 188

[Docket No. USCG-2011-0363]

RIN 1625-AB71

Seagoing Barges

AGENCY: Coast Guard, DHS.

ACTION: Direct final rule; correction.

SUMMARY: The United States Coast Guard published a direct final rule in the Federal Register on December 14, 2011 (76 FR 77712) revising regulations for the inspection and certification of seagoing barges to align with the language of the applicable statues. That document inadvertently transposed the titles of two tables in our amendatory instructions. Additionally, the Coast Guard is republishing the vessel inspection tables that rule amends in their entirety, so that the format of the tables is consistent with current Federal Register format requirements.

DATES: Effective April 12, 2012.

FOR FURTHER INFORMATION CONTACT: If you have questions on this rule, call or email Lieutenant Doug Tindall, United States Coast Guard; telephone (202) 372-1411, email Douglas.Tindall@uscg.mil. If you have questions on viewing the docket, call Renee V. Wright, Program Manager, Docket Operations, telephone (202) 366-9826.

SUPPLEMENTARY INFORMATION: The direct final rule published December 14, 2011 (76 FR 77712) amends row 4, column 4 of Tables 2.01-7(a), 24.05-1(a), 30.01-5(d), 70.05-1(a), 90.05-1(a), and 188.05-1(a) as republished in this correcting amendment. The Coast Guard is republishing the tables so that the format of the tables conforms to current Federal Register requirements. This correcting amendment makes no substantive changes to the tables.

Additionally, this correcting amendment corrects the amendatory instructions of the direct final rule wherein the titles of tables “24.05-1(a)” and “30.01-5(d)” were mistakenly transposed as “24.01-5(a)” and “30.05-1(d)” respectively.

List of Subjects

46 CFR Part 2

Marine safety, Reporting and recordkeeping requirements, Vessels.

46 CFR Part 24

Marine safety.

46 CFR Part 30

Cargo vessels, Foreign relations, Hazardous materials transportation, Penalties, Reporting and recordkeeping requirements, Seamen.

46 CFR Part 70

Marine safety, Passenger vessels, Reporting and recordkeeping requirements.

46 CFR Part 90

Cargo vessels, Marine safety.

46 CFR Part 188

Marine safety, Oceanographic research vessels.

Accordingly, 46 CFR parts 2, 24, 30, 70, 90, and 188 are corrected by making the following correcting amendments:

PART 2—VESSEL INSPECTIONS

1. The authority citation for part 2 continues to read as follows:

Authority: 33 U.S.C. 1903; 43 U.S.C. 1333; 46 U.S.C. 2110, 3103, 3205, 3306, 3307, 3703; 46 U.S.C. Chapter 701; E.O. 12234, 45 FR 58801, 3 CFR, 1980 Comp., p. 277; Department of Homeland Security Delegation No. 0170.1. Subpart 2.45 also issued under the Act Dec. 27, 1950, Ch. 1155, secs. 1, 2, 64 Stat. 1120 (see 46 U.S.C. App. Note prec. 1).

2. Revise Table 2.01-7(a) in § 2.01-7(a) to read as follows:

§ 2.01-7 Classes of vessels (including motorboats) examined or inspected and certificated.

(a) * * *

Table 2.01-7(a)
Method of propulsion, qualified by size or other limitation ¹ | Vessels inspected and certificated under Subchapter D—Tank Vessels ² | Vessels inspected and certificated under Subchapter H—Passenger Vessels 2 3 4 5 or Subchapter K or T—Small Passenger Vessels 2 3 4 | Vessels inspected and certificated under Subchapter I—Cargo and Miscellaneous Vessels 2 5 | Vessels subject to the provisions of Subchapter C—Uninspected Vessels 2 3 6 7 8 | Vessels subject to the provisions of Subchapter U—Oceanographic Vessels 2 3 6 7 9 | Vessels subject to the provisions of Subchapter O—Certain Bulk and Dangerous Cargoes ¹⁰
Column 1 | Column 2 | Column 3 | Column 4 | Column 5 | Column 6 | Column 7
(1) Motor, all vessels except seagoing motor vessels >300 gross tons | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All vessels >15 gross tons carrying freight-for-hire, except those covered by columns 2 and 3. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (iii) All vessels >100 gross tons that—
|  | (A) Carry more than 12 passengers-for-hire whether chartered or not, or (B) Carry more than 12 passengers when chartered with the crew provided, or (C) Carry more than 12 passengers when chartered with no crew provided, or (D) Carry at least 1 passenger-for-hire and are submersible vessels.⁷ (E) Carry at least 1 passenger and are ferries.
|  | (iv) These regulations do not apply to—
|  | (A) Recreational vessels not engaged in trade. (B) Documented cargo or tank vessels issued a permit to carry 16 or fewer persons in addition to the crew. (C) Fishing vessels not engaged in ocean or coastwise service. Such vessels may carry persons on the legitimate business of the vessel ⁶ in addition to the crew, as restricted by the definition of passenger.⁷
(2) Motor, seagoing motor vessels ≥300 gross tons | All vessels carrying combustible or flammable liquid cargo in bulk.⁵ | (i) All vessels carrying more than 12 passengers on an international voyage, except recreational vessels not engaged in trade.⁷ (ii) All ferries <100 gross tons carrying more than 6 passengers and all ferries ≥100 gross tons that carry at least 1 passenger. (iii) These regulations do not apply to— (A) Recreational vessels not engaged in trade. (B) Documented cargo or tank vessels issued a permit to carry 16 or fewer persons in addition to the crew. (C) Fishing vessels not engaged in ocean or coastwise service may carry persons on the legitimate business of the vessel ⁶ in addition to the crew, as restricted by the definition of passenger.⁷ | All vessels, including recreational vessels, not engaged in trade. This does not include vessels covered by columns 2 and 3, and vessels engaged in the fishing industry | All vessels not covered by columns 2, 3, 4, 6, and 7 | All vessels engaged in oceanographic research | All vessels carrying cargoes in bulk that are listed in part 153, table 1, or part 154, table 4, or unlisted cargoes that would otherwise be subject to these parts.¹²
(3) Non-self-propelled vessels <100 gross tons | All vessels carrying combustible or flammable liquid cargo in bulk.⁵ | (i) All vessels that— (A) Carry more than 6 passengers-for-hire whether chartered or not, or (B) Carry more than 6 passengers when chartered with the crew provided, or (C) Carry more than 12 passengers when chartered with no crew provided, or (D) Carry at least 1 passenger-for-hire and is a submersible vessel⁷ (E) Carry more than 12 passengers on an international voyage. (F) Carry more than 6 passengers and are ferries. | All seagoing barges except those covered by columns 2 and 3 | All barges carrying passengers or passengers-for-hire except those covered by column 3 | None | All tank barges carrying cargoes listed in Table 151.05 of this chapter or unlisted cargoes that would otherwise be subject to part 151.1 11 12
(4) Non-self-propelled vessels ≥100 gross tons | All vessels carrying combustible or flammable liquid cargo in bulk.⁵ | (iii) All vessels that— (A) Carry more than 12 passengers-for-hire whether chartered or not, or (B) Carry more than 12 passengers when chartered with the crew provided, or (C) Carry more than 12 passengers when chartered with no crew provided, or (D) Carry at least 1 passenger-for-hire and is a submersible vessel ⁷ (E) Carry more than 12 passengers on an international voyage. (F) Carry at least 1 passenger and are ferries. | All manned seagoing barges | All barges carrying passengers or passengers-for-hire except those covered by columns 3 and 6 | All seagoing barges engaged in oceanographic research | All tank barges carrying cargoes listed in Table 151.05 of this chapter or unlisted cargoes that would otherwise be subject to part 151 1 11.12
(5) Sail.¹³ vessels ≤700 gross tons | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. (iii) All vessels ≥100 gross tons that— | All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (A) Carry more than 12 passengers-for-hire whether chartered or not, or (B) Carry more than 12 passengers when chartered with the crew provided, or (C) Carry more than 12 passengers when chartered with no crew provided, or (D) Carry at least 1 passenger-for-hire and are submersible vessels ⁷ (E) Carry at least 1 passenger and are ferries. (iv) These regulations do not apply to—
|  | (A) Recreational vehicles not engaged in trade. (B) Documented cargo( or tank vessels issued a permit to carry 16 or fewer persons in addition to the crew. (C) Fishing vessels, not engaged in ocean or coastwise service. Such vessels may carry persons on the legitimate business of the vessel ⁶ in addition to the crew, as restricted by the definition of passenger.⁷
(6) Sail.¹³ vessels >700 gross tons | All vessels carrying combustible or flammable liquid cargo in bulk ⁵ | (i) All vessels carrying passengers or passengers-for-hire, except recreational vessels.⁷ (ii) All ferries that carry at least 1 passenger. | All vessels carrying dangerous cargoes, when required by 46 CFR part 98 | None | None | All vessels carrying cargoes in bulk that are listed in part 153, table 1, or part 154, table 4, or unlisted cargoes that would otherwise be subject to these parts.¹²
(7) Steam, vessels ≤19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. (iii) All vessels ≥100 gross tons that— (A) Carry more than 12 passengers-for-hire whether chartered or not, or (B) Carry more than 12 passengers when chartered with the crew provided, or (C) Carry more than 12 passengers when chartered with no crew provided, or (D) Carry at least 1 passenger-for-hire and are submersible vessels.⁷ (E) Carry at least 1 passenger and are ferries. (iv) These regulations do not apply to— (A) Recreational vessels not engaged in trade. (B) Documented cargo or tank vessels issued a permit to carry 16 or fewer persons in addition to the crew. (C) Fishing vessels not engaged in ocean or coastwise service. Such vessels may carry persons on the legitimate business of the vessel ⁶ in addition to the crew, as restricted by the definition of passenger.⁷ | All tugboats and towboats. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
(7) Steam, vessels >19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. (iii) All vessels ≥100 gross tons that— (A) Carry more than 12 passengers-for-hire whether chartered or not, or (B) Carry more than 12 passengers when chartered with the crew provided, or (C) Carry more than 12 passengers when chartered with no crew provided, or (D) Carry at least 1 passenger-for-hire and are submersible vessels ⁷ (E) Carry at least 1 passenger and are ferries. (iv) These regulations do not apply to— (A) Recreational vehicles not engaged in trade. (B) Documented cargo or tank vessels issued a permit to carry 16 or fewer persons in addition to the crew. (C) Fishing vessels not engaged in ocean or coastwise service. Such vessels may carry persons on the legitimate business of the vessel ⁶ in addition to the crew, as restricted by the definition of passenger.⁷ | All vessels not covered by columns 2, 3, 6, and 7 | None | All vessels engaged in oceanographic research | All vessels carrying cargoes in bulk that are listed in part 153, table 1, or part 154, table 4, or unlisted cargoes that would otherwise be subject to these parts.¹²
Key to symbols used in this table: ≤ means less than or equal to; > means greater than; < means less than; and ≥ means greater than or equal to.
Footnotes:
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171-179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21) (21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “* * * being employed exclusively in instruction in oceanography or limnology, or both, or exclusively in oceanographic research, * * *. Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

PART 24—GENERAL PROVISIONS

3. The authority citation for part 24 continues to read as follows:

Authority: 46 U.S.C. 2113, 3306, 4104, 4302; Pub. L. 103-206; 107 Stat. 2439; E.O. 12234; 45 FR 58801, 3 CFR, 1980 Comp., p. 277; Department of Homeland Security Delegation No. 0170.1.

4. Revise Table 24.05-1(a) of § 24.05-1(a) to read as follows:

§ 24.05-1 Vessels subject to the requirements of this subchapter.

(a) * * *

Table 24.05-1(a)
Method of propulsion, qualified by size or other limitation ¹ | Vessels inspected and certificated under Subchapter D—Tank Vessels ² | Vessels inspected and certificated under Subchapter H—Passenger Vessels 2 3 4 5 or Subchapter K or T—Small Passenger Vessels 2 3 4 | Vessels inspected and certificated under Subchapter I—Cargo and Miscellaneous Vessels 2 5 | Vessels subject to the provisions of Subchapter C—Uninspected Vessels 2 3 6 7 8 | Vessels subject to the provisions of Subchapter U—Oceanographic Vessels 2 3 6 7 9 | Vessels subject to the provisions of Subchapter O—Certain Bulk and Dangerous Cargoes ¹⁰
Column 1 | Column 2 | Column 3 | Column 4 | Column 5 | Column 6 | Column 7
(1) Motor, all vessels except seagoing motor vessels ≥300 gross tons | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All vessels >15 gross tons carrying freight-for-hire, except those covered by columns 2 and 3. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (iii) All vessels ≥100 gross tons that— (A) Carry more than 12 passengers-for-hire whether chartered or not, or (B) Carry more than 12 passengers when chartered with the crew provided, or (C) Carry more than 12 passengers when chartered with no crew provided, or (D) Carry at least 1 passenger-for-hire and are submersible vessels.⁷ (E) Carry at least 1 passenger and are ferries. |  |  |  |
|  | (iv) These regulations do not apply to— (A) Recreational vessels not engaged in trade. (B) Documented cargo or tank vessels issued a permit to carry 16 or fewer persons in addition to the crew. (C) Fishing vessels not engaged in ocean or coastwise service. Such vessels may carry persons on the legitimate business of the vessel ⁶ in addition to the crew, as restricted by the definition of passenger.⁷ |  |  |  |
(2) Motor, seagoing motor vessels ≥300 gross tons | All vessels carrying combustible or flammable liquid cargo in bulk.⁵ | (i) All vessels carrying more than 12 passengers on an international voyage, except recreational vessels not engaged in trade.⁷ (ii) All ferries <100 gross tons carrying more than 6 passengers and all ferries ≥100 gross tons that carry at least 1 passenger. (iii) These regulations do not apply to— (A) Recreational vessels not engaged in trade. (B) Documented cargo or tank vessels issued a permit to carry 16 or fewer persons in addition to the crew. (C) Fishing vessels not engaged in ocean or coastwise service may carry persons on the legitimate business of the vessel ⁶ in addition to the crew, as restricted by the definition of passenger.⁷ | All vessels, including recreational vessels, not engaged in trade. This does not include vessels covered by columns 2 and 3, and vessels engaged in the fishing industry | All vessels not covered by columns 2, 3, 4, 6, and 7 | All vessels engaged in oceanographic research | All vessels carrying cargoes in bulk that are listed in part 153, table 1, or part 154, table 4, or unlisted cargoes that would otherwise be subject to these parts.¹²
(3) Non-self-propelled vessels <100 gross tons | All vessels carrying combustible or flammable liquid cargo in bulk.⁵ | (i) All vessels that— (A) Carry more than 6 passengers-for-hire whether chartered or not, or (B) Carry more than 6 passengers when chartered with the crew provided, or (C) Carry more than 12 passengers when chartered with no crew provided, or (D) Carry at least 1 passenger-for-hire and is a submersible vessel.⁷ (E) Carry more than 12 passengers on an international voyage. (F) Carry more than 6 passengers and are ferries. | All seagoing barges except those covered by columns 2 and 3 | All barges carrying passengers or passengers-for-hire except those covered by column 3 | None | All tank barges carrying cargoes listed in Table 151.05 of this chapter or unlisted cargoes that would otherwise be subject to part 151.1 11 12
(4) Non-self-propelled vessels ≥100 gross tons | All vessels carrying combustible or flammable liquid cargo in bulk.⁵ | (iii) All vessels that— (A) Carry more than 12 passengers-for-hire whether chartered or not, or (B) Carry more than 12 passengers when chartered with the crew provided, or (C) Carry more than 12 passengers when chartered with no crew provided, or (D) Carry at least 1 passenger-for-hire and is a submersible vessel.⁷ (E) Carry more than 12 passengers on an international voyage. (F) Carry at least 1 passenger and are ferries. | All manned seagoing barges | All barges carrying passengers or passengers-for-hire except those covered by columns 3 and 6 | All seagoing barges engaged in oceanographic research | All tank barges carrying cargoes listed in Table 151.05 of this chapter or unlisted cargoes that would otherwise be subject to part 151.1 11 12
(5) Sail.¹³ vessels ≤700 gross tons | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (iii) All vessels ≥100 gross tons that— (A) Carry more than 12 passengers-for-hire whether chartered or not, or (B) Carry more than 12 passengers when chartered with the crew provided, or (C) Carry more than 12 passengers when chartered with no crew provided, or (D) Carry at least 1 passenger-for-hire and are submersible vessels.⁷ (E) Carry at least 1 passenger and are ferries. |  |  |  |
|  | (iv) These regulations do not apply to— (A) Recreational vehicles not engaged in trade. (B) Documented cargo or tank vessels issued a permit to carry 16 or fewer persons in addition to the crew. (C) Fishing vessels, not engaged in ocean or coastwise service. Such vessels may carry persons on the legitimate business of the vessel ⁶ in addition to the crew, as restricted by the definition of passenger.⁷ |  |  |  |
(6) Sail.¹³ vessels >700 gross tons | All vessels carrying combustible or flammable liquid cargo in bulk.⁵ | (i) All vessels carrying passengers or passengers-for-hire, except recreational vessels.⁷ (ii) All ferries that carry at least 1 passenger. | All vessels carrying dangerous cargoes, when required by 46 CFR part 98 | None | None | All vessels carrying cargoes in bulk that are listed in part 153, table 1, or part 154, table 4, or unlisted cargoes that would otherwise be subject to these parts.¹²
(7) Steam, vessels ≤19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All tugboats and towboats. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (iii) All vessels ≥100 gross tons that— (A) Carry more than 12 passengers-for-hire whether chartered or not, or (B) Carry more than 12 passengers when chartered with the crew provided, or (C) Carry more than 12 passengers when chartered with no crew provided, or (D) Carry at least 1 passenger-for-hire and are submersible vessels.⁷ (E) Carry at least 1 passenger and are ferries. |  |  |  |
|  | (iv) These regulations do not apply to— (A) Recreational vessels not engaged in trade. (B) Documented cargo or tank vessels issued a permit to carry 16 or fewer persons in addition to the crew. (C) Fishing vessels not engaged in ocean or coastwise service. Such vessels may carry persons on the legitimate business of the vessel ⁶ in addition to the crew, as restricted by the definition of passenger.⁷ |  |  |  |
(7) Steam, vessels >19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All vessels not covered by columns 2, 3, 6, and 7 | None | All vessels engaged in oceanographic research | All vessels carrying cargoes in bulk that are listed in part 153, table 1, or part 154, table 4, or unlisted cargoes that would otherwise be subject to these parts.¹²
|  | (iii) All vessels ≥100 gross tons that— (A) Carry more than 12 passengers-for-hire whether chartered or not, or (B) Carry more than 12 passengers when chartered with the crew provided, or (C) Carry more than 12 passengers when chartered with no crew provided, or (D) Carry at least 1 passenger-for-hire and are submersible vessels.⁷ (E) Carry at least 1 passenger and are ferries. |  |  |  |
|  | (iv) These regulations do not apply to— (A) Recreational vehicles not engaged in trade. (B) Documented cargo or tank vessels issued a permit to carry 16 or fewer persons in addition to the crew. (C) Fishing vessels not engaged in ocean or coastwise service. Such vessels may carry persons on the legitimate business of the vessel ⁶ in addition to the crew, as restricted by the definition of passenger.⁷ |  |  |  |
Key to symbols used in this table: ≤ means less than or equal to; > means greater than; < means less than; and ≥ means greater than or equal to.
Footnotes:
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171-179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21)(21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “* * * being employed exclusively in instruction in oceanography or limnology, or both, or exclusively in oceanographic research, * * * *. Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

PART 30—GENERAL PROVISIONS

5. The authority citation for part 30 continues to read as follows:

Authority: 46 U.S.C. 2103, 3306, 3703; Pub. L. 103-206, 107 Stat. 2439; 49 U.S.C. 5103, 5106; Department of Homeland Security Delegation No. 0170.1; Section 30.01-2 also issued under the authority of 44 U.S.C. 3507; Section 30.01-05 also issued under the authority of Sec. 4109, Pub. L. 101-380, 104 Stat. 515.

6. Revise Table 30.01-5(d) of § 30.01-5 to read as follows:

§ 30.01-5 Application of regulations—TB/ALL.

* * * * *

Table 30.01-5(d)
Method of propulsion, qualified by size or other limitation ¹ | Vessels inspected and certificated under Subchapter D—Tank Vessels ² | Vessels inspected and certificated under Subchapter H—Passenger Vessels 2 3 4 5 or Subchapter K or T—Small Passenger Vessels 2 3 4 | Vessels inspected and certificated under Subchapter I—Cargo and Miscellaneous Vessels 2 5 | Vessels subject to the provisions of Subchapter C—Uninspected Vessels 2 3 6 7 8 | Vessels subject to the provisions of Subchapter U—Oceanographic Vessels 2 3 6 7 9 | Vessels subject to the provisions of Subchapter O—Certain Bulk and Dangerous Cargoes ¹⁰
Column 1 | Column 2 | Column 3 | Column 4 | Column 5 | Column 6 | Column 7
(1) Motor, all vessels except seagoing motor vessels ≥300 gross tons | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels ⁷ (E) Carry more than 6 passengers and are ferries. | All vessels >15 gross tons carrying freight-for-hire, except those covered by columns 2 and 3. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (iii) All vessels ≥100 gross tons that— (A) Carry more than 12 passengers-for-hire whether chartered or not, or (B) Carry more than 12 passengers when chartered with the crew provided, or (C) Carry more than 12 passengers when chartered with no crew provided, or (D) Carry at least 1 passenger-for-hire and are submersible vessels.⁷ (E) Carry at least 1 passenger and are ferries. |  |  |  |
|  | (iv) These regulations do not apply to— (A) Recreational vessels not engaged in trade. (B) Documented cargo or tank vessels issued a permit to carry 16 or fewer persons in addition to the crew. (C) Fishing vessels not engaged in ocean or coastwise service. Such vessels may carry persons on the legitimate business of the vessel ⁶ in addition to the crew, as restricted by the definition of passenger.⁷ |  |  |  |
(2) Motor, seagoing motor vessels ≥300 gross tons | All vessels carrying combustible or flammable liquid cargo in bulk.⁵ | (i) All vessels carrying more than 12 passengers on an international voyage, except recreational vessels not engaged in trade.⁷
|  | (ii) All ferries <100 gross tons carrying more than 6 passengers and all ferries ≥100 gross tons that carry at least 1 passenger. | All vessels, including recreational vessels, not engaged in trade. This does not include vessels covered by columns 2 and 3, and vessels engaged in the fishing industry. | All vessels not covered by columns 2, 3, 4, 6, and 7 | All vessels engaged in oceanographic research | All vessels carrying cargoes in bulk that are listed in part 153, table 1, or part 154, table 4, or unlisted cargoes that would otherwise be subject to these parts.¹²
|  | (iii) These regulations do not apply to— (A) Recreational vessels not engaged in trade. (B) Documented cargo or tank vessels issued a permit to carry 16 or fewer persons in addition to the crew. (C) Fishing vessels not engaged in ocean or coastwise service may carry persons on the legitimate business of the vessel ⁶ in addition to the crew, as restricted by the definition of passenger.⁷ |  |  |  |
(3) Non-self-propelled vessels <100 gross tons | All vessels carrying combustible or flammable liquid cargo in bulk.⁵ | (i) All vessels that— (A) Carry more than 6 passengers-for-hire whether chartered or not, or (B) Carry more than 6 passengers when chartered with the crew provided, or (C) Carry more than 12 passengers when chartered with no crew provided, or (D) Carry at least 1 passenger-for-hire and is a submersible vessel.⁷ (E) Carry more than 12 passengers on an international voyage. (F) Carry more than 6 passengers and are ferries. | All seagoing barges except those covered by columns 2 and 3 | All barges carrying passengers or passengers-for-hire except those covered by column 3 | None | All tank barges carrying cargoes listed in Table 151.05 of this chapter or unlisted cargoes that would otherwise be subject to part 151.1 11 12
(4) Non-self-propelled vessels ≥100 gross tons | All vessels carrying combustible or flammable liquid cargo in bulk.⁵ | (iii) All vessels that— (A) Carry more than 12 passengers-for-hire whether chartered or not, or (B) Carry more than 12 passengers when chartered with the crew provided, or (C) Carry more than 12 passengers when chartered with no crew provided, or (D) Carry at least 1 passenger-for-hire and is a submersible vessel.⁷ (E) Carry more than 12 passengers on an international voyage. (F) Carry at least 1 passenger and are ferries. | All manned seagoing barges | All barges carrying passengers or passengers-for-hire except those covered by columns 3 and 6 | All seagoing barges engaged in oceanographic research | All tank barges carrying cargoes listed in Table 151.05 of this chapter or unlisted cargoes that would otherwise be subject to part 151.1 11 12
(5) Sail.¹³ vessels ≤700 gross tons | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (iii) All vessels ≥100 gross tons that— (A) Carry more than 12 passengers-for-hire whether chartered or not, or (B) Carry more than 12 passengers when chartered with the crew provided, or (C) Carry more than 12 passengers when chartered with no crew provided, or (D) Carry at least 1 passenger-for-hire and are submersible vessels.⁷ (E) Carry at least 1 passenger and are ferries. |  |  |  |
|  | (iv) These regulations do not apply to— (A) Recreational vehicles not engaged in trade. (B) Documented cargo or tank vessels issued a permit to carry 16 or fewer persons in addition to the crew. (C) Fishing vessels, not engaged in ocean or coastwise service. Such vessels may carry persons on the legitimate business of the vessel ⁶ in addition to the crew, as restricted by the definition of passenger.⁷ |  |  |  |
(6) Sail.¹³ vessels >700 gross tons | All vessels carrying combustible or flammable liquid cargo in bulk.⁵ | (i) All vessels carrying passengers or passengers-for-hire, except recreational vessels.⁷ (ii) All ferries that carry at least 1 passenger. | All vessels carrying dangerous cargoes, when required by 46 CFR part 98 | None | None | All vessels carrying cargoes in bulk that are listed in part 153, table 1, or part 154, table 4, or unlisted cargoes that would otherwise be subject to these parts.¹²
(7) Steam, vessels ≤19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All tugboats and towboats. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (iii) All vessels ≥100 gross tons that— (A) Carry more than 12 passengers-for-hire whether chartered or not, or (B) Carry more than 12 passengers when chartered with the crew provided, or (C) Carry more than 12 passengers when chartered with no crew provided, or (D) Carry at least 1 passenger-for-hire and are submersible vessels.⁷ (E) Carry at least 1 passenger and are ferries. |  |  |  |
|  | (iv) These regulations do not apply to— (A) Recreational vessels not engaged in trade. (B) Documented cargo or tank vessels issued a permit to carry 16 or fewer persons in addition to the crew. (C) Fishing vessels not engaged in ocean or coastwise service. Such vessels may carry persons on the legitimate business of the vessel ⁶ in addition to the crew, as restricted by the definition of passenger.⁷ |  |  |  |
(7) Steam, vessels >19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All vessels not covered by columns 2, 3, 6, and 7 | None | All vessels engaged in oceanographic research | All vessels carrying cargoes in bulk that are listed in part 153, table 1, or part 154, table 4, or unlisted cargoes that would otherwise be subject to these parts.¹²
|  | (iii) All vessels ≥100 gross tons that— (A) Carry more than 12 passengers-for-hire whether chartered or not, or (B) Carry more than 12 passengers when chartered with the crew provided, or (C) Carry more than 12 passengers when chartered with no crew provided, or (D) Carry at least 1 passenger-for-hire and are submersible vessels.⁷ (E) Carry at least 1 passenger and are ferries. |  |  |  |
|  | (iv) These regulations do not apply to— (A) Recreational vehicles not engaged in trade. (B) Documented cargo or tank vessels issued a permit to carry 16 or fewer persons in addition to the crew. (C) Fishing vessels not engaged in ocean or coastwise service. Such vessels may carry persons on the legitimate business of the vessel ⁶ in addition to the crew, as restricted by the definition of passenger.⁷ |  |  |  |
Key to symbols used in this table: ≤ means less than or equal to; > means greater than; < means less than; and ≥ means greater than or equal to.
Footnotes:
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171-179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21)(21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “* * * being employed exclusively in instruction in oceanography or limnology, or both, or exclusively in oceanographic research, * * *. Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

PART 70—GENERAL PROVISIONS

7. The authority citation for part 70 continues to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1; Section 70.01-15 also issued under the authority of 44 U.S.C. 3507.

8. Revise Table 70.05-1(a) of § 70.05-1(a) to read as follows:

§ 70.05-1 United States flag vessels subject to the requirements of this subchapter.

(a) * * *

Table 70.05-1(a)
Method of propulsion, qualified by size or other limitation ¹ | Vessels inspected and certificated under Subchapter D—Tank Vessels ² | Vessels inspected and certificated under Subchapter H—Passenger Vessels 2 3 4 5 or Subchapter K or T—Small Passenger Vessels 2 3 4 | Vessels inspected and certificated under Subchapter I—Cargo and Miscellaneous Vessels 2 5 | Vessels subject to the provisions of Subchapter C—Uninspected Vessels 2 3 6 7 8 | Vessels subject to the provisions of Subchapter U—Oceanographic Vessels 2 3 6 7 9 | Vessels subject to the provisions of Subchapter O—Certain Bulk and Dangerous Cargoes ¹⁰
Column 1 | Column 2 | Column 3 | Column 4 | Column 5 | Column 6 | Column 7
(1) Motor, all vessels except seagoing motor vessels ≥300 gross tons. | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All vessels >15 gross tons carrying freight-for-hire, except those covered by columns 2 and 3. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (iii) All vessels ≥100 gross tons that— (A) Carry more than 12 passengers-for-hire whether chartered or not, or (B) Carry more than 12 passengers when chartered with the crew provided, or (C) Carry more than 12 passengers when chartered with no crew provided, or (D) Carry at least 1 passenger-for-hire and are submersible vessels.⁷ (E) Carry at least 1 passenger and are ferries. |  |  |  |
|  | (iv) These regulations do not apply to— (A) Recreational vessels not engaged in trade. (B) Documented cargo or tank vessels issued a permit to carry 16 or fewer persons in addition to the crew. (C) Fishing vessels not engaged in ocean or coastwise service. Such vessels may carry persons on the legitimate business of the vessel ⁶ in addition to the crew, as restricted by the definition of passenger.⁷ |  |  |  |
(2) Motor, seagoing motor vessels ≥300 gross tons | All vessels carrying combustible or flammable liquid cargo in bulk.⁵ | (i) All vessels carrying more than 12 passengers on an international voyage, except recreational vessels not engaged in trade.⁷ (ii) All ferries <100 gross tons carrying more than 6 passengers and all ferries ≥100 gross tons that carry at least 1 passenger. (iii) These regulations do not apply to— (A) Recreational vessels not engaged in trade. (B) Documented cargo or tank vessels issued a permit to carry 16 or fewer persons in addition to the crew. (C) Fishing vessels not engaged in ocean or coastwise service may carry persons on the legitimate business of the vessel ⁶ in addition to the crew, as restricted by the definition of passenger.⁷ | All vessels, including recreational vessels, not engaged in trade. This does not include vessels covered by columns 2 and 3, and vessels engaged in the fishing industry | All vessels not covered by columns 2, 3, 4, 6, and 7 | All vessels engaged in oceanographic research | All vessels carrying cargoes in bulk that are listed in part 153, table 1, or part 154, table 4, or unlisted cargoes that would otherwise be subject to these parts.¹²
(3) Non-self-propelled vessels <100 gross tons | All vessels carrying combustible or flammable liquid cargo in bulk.⁵ | (i) All vessels that— (A) Carry more than 6 passengers-for-hire whether chartered or not, or (B) Carry more than 6 passengers when chartered with the crew provided, or (C) Carry more than 12 passengers when chartered with no crew provided, or (D) Carry at least 1 passenger-for-hire and is a submersible vessel.⁷ (E) Carry more than 12 passengers on an international voyage. (F) Carry more than 6 passengers and are ferries. | All seagoing barges except those covered by columns 2 and 3 | All barges carrying passengers or passengers-for-hire except those covered by column 3 | None | All tank barges carrying cargoes listed in Table 151.05 of this chapter or unlisted cargoes that would otherwise be subject to part 151.1 11 12
(4) Non-self-propelled vessels ≥100 gross tons | All vessels carrying combustible or flammable liquid cargo in bulk.⁵ | (iii) All vessels that— (A) Carry more than 12 passengers-for-hire whether chartered or not, or (B) Carry more than 12 passengers when chartered with the crew provided, or (C) Carry more than 12 passengers when chartered with no crew provided, or (D) Carry at least 1 passenger-for-hire and is a submersible vessel.⁷ (E) Carry more than 12 passengers on an international voyage. (F) Carry at least 1 passenger and are ferries. | All manned seagoing barges | All barges carrying passengers or passengers-for-hire except those covered by columns 3 and 6 | All seagoing barges engaged in oceanographic research | All tank barges carrying cargoes listed in Table 151.05 of this chapter or unlisted cargoes that would otherwise be subject to part 151.1 11 12
(5) Sail.¹³ vessels ≤700 gross tons | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (iii) All vessels ≥100 gross tons that— (A) Carry more than 12 passengers-for-hire whether chartered or not, or (B) Carry more than 12 passengers when chartered with the crew provided, or (C) Carry more than 12 passengers when chartered with no crew provided, or (D) Carry at least 1 passenger-for-hire and are submersible vessels.⁷ (E) Carry at least 1 passenger and are ferries. |  |  |  |
|  | (iv) These regulations do not apply to— (A) Recreational vehicles not engaged in trade. (B) Documented cargo or tank vessels issued a permit to carry 16 or fewer persons in addition to the crew. (C) Fishing vessels, not engaged in ocean or coastwise service. Such vessels may carry persons on the legitimate business of the vessel ⁶ in addition to the crew, as restricted by the definition of passenger.⁷ |  |  |  |
(6) Sail.¹³ vessels >700 gross tons | All vessels carrying combustible or flammable liquid cargo in bulk.⁵ | (i) All vessels carrying passengers or passengers-for-hire, except recreational vessels.⁷ (ii) All ferries that carry at least 1 passenger. | All vessels carrying dangerous cargoes, when required by 46 CFR part 98 | None | None | All vessels carrying cargoes in bulk that are listed in part 153, table 1, or part 154, table 4, or unlisted cargoes that would otherwise be subject to these parts.¹²
(7) Steam, vessels ≤19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All tugboats and towboats. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (iii) All vessels ≥100 gross tons that— (A) Carry more than 12 passengers-for-hire whether chartered or not, or (B) Carry more than 12 passengers when chartered with the crew provided, or (C) Carry more than 12 passengers when chartered with no crew provided, or (D) Carry at least 1 passenger-for-hire and are submersible vessels.⁷ (E) Carry at least 1 passenger and are ferries. (iv) These regulations do not apply to— (A) Recreational vessels not engaged in trade. (B) Documented cargo or tank vessels issued a permit to carry 16 or fewer persons in addition to the crew. (C) Fishing vessels not engaged in ocean or coastwise service. Such vessels may carry persons on the legitimate business of the vessel ⁶ in addition to the crew, as restricted by the definition of passenger.⁷ |  |  |
(7) Steam, vessels >19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All vessels not covered by columns 2, 3, 6, and 7. | None | All vessels engaged in oceanographic research | All vessels carrying cargoes in bulk that are listed in part 153, table 1, or part 154, table 4, or unlisted cargoes that would otherwise be subject to these parts.¹²
|  | (iii) All vessels ≥100 gross tons that— (A) Carry more than 12 passengers-for-hire whether chartered or not, or (B) Carry more than 12 passengers when chartered with the crew provided, or (C) Carry more than 12 passengers when chartered with no crew provided, or (D) Carry at least 1 passenger-for-hire and are submersible vessels.⁷ (E) Carry at least 1 passenger and are ferries. (iv) These regulations do not apply to— (A) Recreational vehicles not engaged in trade. (B) Documented cargo or tank vessels issued a permit to carry 16 or fewer persons in addition to the crew. (C) Fishing vessels not engaged in ocean or coastwise service. Such vessels may carry persons on the legitimate business of the vessel ⁶ in addition to the crew, as restricted by the definition of passenger.⁷ |  |  |
Key to symbols used in this table: ≤ means less than or equal to; > means greater than; < means less than; and ≥ means greater than or equal to.
Footnotes:
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171-179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21)(21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “* * * being employed exclusively in instruction in oceanography or limnology, or both, or exclusively in oceanographic research, * * * *. Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

PART 90—GENERAL PROVISIONS

9. The authority citation for part 90 continues to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1.

10. Revise Table 90.05-1(a) of § 90.05-1 to read as follows:

§ 90.05-1 Vessels subject to requirements of this subchapter.

(a) * * *

Table 90.05-1(a)
Method of propulsion, qualified by size or other limitation ¹ | Vessels inspected and certificated under Subchapter D—Tank Vessels ² | Vessels inspected and certificated under Subchapter H—Passenger Vessels2 3 4 5 or Subchapter K or T—Small Passenger Vessels 2 3 4 | Vessels inspected and certificated under Subchapter I—Cargo and Miscellaneous Vessels 2 5 | Vessels subject to the provisions of Subchapter C—Uninspected Vessels 2 3 6 7 8 | Vessels subject to the provisions of Subchapter U—Oceanographic Vessels 2 3 6 7 9 | Vessels subject to the provisions of Subchapter O—Certain Bulk and Dangerous Cargoes ¹⁰
Column 1 | Column 2 | Column 3 | Column 4 | Column 5 | Column 6 | Column 7
(1) Motor, all vessels except seagoing motor vessels ≥300 gross tons | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All vessels >15 gross tons carrying freight-for-hire, except those covered by columns 2 and 3. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel.⁶ in addition to the crew, as restricted by the definition of passenger.⁷
(2) Motor, seagoing motor vessels ≥300 gross tons | All vessels carrying combustible or flammable liquid cargo in bulk.⁵ | (i) All vessels carrying more than 12 passengers on an international voyage, except recreational vessels not engaged in trade.⁷ (ii) All ferries <100 gross tons carrying more than 6 passengers and all ferries ≥100 gross tons that carry at least 1 passenger. (iii) These regulations do not apply to— (A) Recreational vessels not engaged in trade. (B) Documented cargo or tank vessels issued a permit to carry 16 or fewer persons in addition to the crew. (C) Fishing vessels not engaged in ocean or coastwise service may carry persons on the legitimate business of the vessel.⁶ in addition to the crew, as restricted by the definition of passenger.⁷ | All vessels, including recreational vessels, not engaged in trade. This does not include vessels covered by columns 2 and 3, and vessels engaged in the fishing industry | All vessels not covered by columns 2, 3, 4, 6, and 7 | All vessels engaged in oceanographic research | All vessels carrying cargoes in bulk that are listed in part 153, table 1, or part 154, table 4, or unlisted cargoes that would otherwise be subject to these parts.¹²
(3) Non-self-propelled vessels <100 gross tons | All vessels carrying combustible or flammable liquid cargo in bulk.⁵ | (i) All vessels that— (A) Carry more than 6 passengers-for-hire whether chartered or not, or (B) Carry more than 6 passengers when chartered with the crew provided, or (C) Carry more than 12 passengers when chartered with no crew provided, or (D) Carry at least 1 passenger-for-hire and is a submersible vessel.⁷ (E) Carry more than 12 passengers on an international voyage. (F) Carry more than 6 passengers and are ferries. | All seagoing barges except those covered by columns 2 and 3 | All barges carrying passengers or passengers-for-hire except those covered by column 3 | None | All tank barges carrying cargoes listed in Table 151.05 of this chapter or unlisted cargoes that would otherwise be subject to part 151.1 11 12
(4) Non-self-propelled vessels ≥100 gross tons | All vessels carrying combustible or flammable liquid cargo in bulk.⁵ | (iii) All vessels that— (A) Carry more than 12 passengers-for-hire whether chartered or not, or B) Carry more than 12 passengers when chartered with the crew provided, or (C) Carry more than 12 passengers when chartered with no crew provided, or (D) Carry at least 1 passenger-for-hire and is a submersible vessel.⁷ (E) Carry more than 12 passengers on an international voyage. (F) Carry at least 1 passenger and are ferries. | All manned seagoing barges | All barges carrying passengers or passengers-for-hire except those covered by columns 3 and 6 | All seagoing barges engaged in oceanographic research | All tank barges carrying cargoes listed in Table 151.05 of this chapter or unlisted cargoes that would otherwise be subject to part 151.1 11 12
(5) Sail.¹³ vessels ≤700 gross tons | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels, not engaged in ocean or coastwise service. Such vessels may carry persons on the legitimate business of the vessel ⁶ in addition to the crew, as restricted by the definition of passenger.⁷
(6) Sail.¹³ vessels >700 gross tons | All vessels carrying combustible or flammable liquid cargo in bulk.⁵ | (i) All vessels carrying passengers or passengers-for-hire, except recreational vessels.⁷ (ii) All ferries that carry at least 1 passenger. | All vessels carrying dangerous cargoes, when required by 46 CFR part 98 | None | None | All vessels carrying cargoes in bulk that are listed in part 153, table 1, or part 154, table 4, or unlisted cargoes that would otherwise be subject to these parts.¹²
(7) Steam, vessels ≤19.8 meters (65 feet) in length. | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All tugboats and towboats. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(7) Steam, vessels >19.8 meters (65 feet) in length. | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All vessels not covered by columns 2, 3, 6, and 7 | None | All vessels engaged in oceanographic research | All vessels carrying cargoes in bulk that are listed in part 153, table 1, or part 154, table 4, or unlisted cargoes that would otherwise be subject to these parts.¹²
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
Key to symbols used in this table: ≤ means less than or equal to; > means greater than; < means less than; and ≥ means greater than or equal to.
Footnotes:
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171-179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21)(21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “* * * being employed exclusively in instruction in oceanography or limnology, or both, or exclusively in oceanographic research, * * *. Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

PART 188—GENERAL PROVISIONS

11. The authority citation for part 188 continues to read as follows:

Authority: 46 U.S.C. 2113, 3306; Pub. L. 103-206, 107 Stat. 2439; 49 U.S.C. 5103, 5106; E.O. 12234, 45 FR 58801, 3 CFR, 1980 Comp., p. 277; Department of Homeland Security Delegation No. 0170.1.

12. Revise Table 188.05-1(a) of § 188.05-1 to read as follows:

§ 188.05-1 Vessels subject to the requirements of this subchapter.

(a) * * *

Table 188.05-1(a)
Method of propulsion, qualified by size or other limitation ¹ | Vessels inspected and certificated under Subchapter D—Tank Vessels ² | Vessels inspected and certificated under subchapter H—Passenger Vessels 2 3 4 5 or Subchapter K or T—Small Passenger Vessels 2 3 4 | Vessels inspected and certificated under Subchapter I—Cargo and Miscellaneous Vessels 2 5 | Vessels subject to the provisions of Subchapter C—Uninspected Vessels 2 3 6 7 8 | Vessels subject to the provisions of Subchapter U—Oceanographic Vessels 2 3 6 7 9 | Vessels subject to the provisions of Subchapter O—Certain Bulk and Dangerous Cargoes ¹⁰
Column 1 | Column 2 | Column 3 | Column 4 | Column 5 | Column 6 | Column 7
(1) Motor, all vessels except seagoing motor vessels ≥300 gross tons | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All vessels >15 gross tons carrying freight-for-hire, except those covered by columns 2 and 3. All vessels carrying dangerous cargoes, when required by 46 CFR part 98. | All vessels not covered by columns 2, 3, 4, and 6 | None | All vessels carrying cargoes in bulk that are listed in part 153, table 1, or part 154, table 4, or unlisted cargoes that would otherwise be subject to these parts.¹²
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(2) Motor, seagoing motor vessels ≥300 gross tons | All vessels carrying combustible or flammable liquid cargo in bulk.⁵ | (i) All vessels carrying more than 12 passengers on an international voyage, except recreational vessels not engaged in trade.⁷ (ii) All ferries <100 gross tons carrying more than 6 passengers and all ferries ≥100 gross tons that carry at least 1 passenger. (iii) These regulations do not apply to— (A) Recreational vessels not engaged in trade. (B) Documented cargo or tank vessels issued a permit to carry 16 or fewer persons in addition to the crew. (C) Fishing vessels not engaged in ocean or coastwise service may carry persons on the legitimate business of the vessel ⁶ in addition to the crew, as restricted by the definition of passenger.⁷ | All vessels, including recreational vessels, not engaged in trade. This does not include vessels covered by columns 2 and 3, and vessels engaged in the fishing industry. | All vessels not covered by columns 2, 3, 4, 6, and 7 | All vessels engaged in oceanographic research | All vessels carrying cargoes in bulk that are listed in part 153, table 1, or part 154, table 4, or unlisted cargoes that would otherwise be subject to these parts.¹²
(3) Non-self-propelled vessels <100 gross tons | All vessels carrying combustible or flammable liquid cargo in bulk.⁵ | (i) All vessels that— (A) Carry more than 6 passengers-for-hire whether chartered or not, or (B) Carry more than 6 passengers when chartered with the crew provided, or (C) Carry more than 12 passengers when chartered with no crew provided, or (D) Carry at least 1 passenger-for-hire and is a submersible vessel.⁷ (E) Carry more than 12 passengers on an international voyage. (F) Carry more than 6 passengers and are ferries. | All seagoing barges except those covered by columns 2 and 3 | All barges carrying passengers or passengers-for-hire except those covered by column 3 | None | All tank barges carrying cargoes listed in Table 151.05 of this chapter or unlisted cargoes that would otherwise be subject to part 151.1 11 12
(4) Non-self-propelled vessels ≥100 gross tons. | All vessels carrying combustible or flammable liquid cargo in bulk.⁵ | (iii) All vessels that— (A) Carry more than 12 passengers-for-hire whether chartered or not, or (B) Carry more than 12 passengers when chartered with the crew provided, or (C) Carry more than 12 passengers when chartered with no crew provided, or (D) Carry at least 1 passenger-for-hire and is a submersible vessel ⁷ (E) Carry more than 12 passengers on an international voyage. (F) Carry at least 1 passenger and are ferries. | All manned seagoing barges | All barges carrying passengers or passengers-for-hire except those covered by columns 3 and 6 | All seagoing barges engaged in oceanographic research | All tank barges carrying cargoes listed in Table 151.05 of this chapter or unlisted cargoes that would otherwise be subject to part 151.1 11 12
(5) Sail.¹³ vessels ≤700 gross tons. | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels ⁷ (E) Carry more than 6 passengers and are ferries. | All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels, not engaged in ocean or coastwise service. Such vessels may carry persons on the legitimate business of the vessel ⁶ in addition to the crew, as restricted by the definition of passenger.⁷
(6) Sail.¹³ vessels >700 gross tons | All vessels carrying combustible or flammable liquid cargo in bulk.⁵ | (i) All vessels carrying passengers or passengers-for-hire, except recreational vessels.⁷ ii) All ferries that carry at least 1 passenger. | All vessels carrying dangerous cargoes, when required by 46 CFR part 98 | None | None | All vessels carrying cargoes in bulk that are listed in part 153, table 1, or part 154, table 4, or unlisted cargoes that would otherwise be subject to these parts.¹²
(7) Steam, vessels ≤19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All tugboats and towboats. All vessels carrying dangerous cargoes, when required by 46 CFR part 98 | All vessels not covered by columns 2, 3, 4, and 6 | None | All vessels carrying cargoes in bulk that are listed in part 153, table 1, or part 154, table 4, or unlisted cargoes that would otherwise be subject to these parts.¹²
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel⁶ in addition to the crew, as restricted by the definition of passenger.⁷
(7) Steam, vessels >19.8 meters (65 feet) in length. | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. | All vessels not covered by columns 2, 3, 6, and 7 | None | All vessels engaged in oceanographic research | All vessels carrying cargoes in bulk that are listed in part 153, table 1, or part 154, table 4, or unlisted cargoes that would otherwise be subject to these parts.¹²
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels not engaged in ocean or coastwise service. Such vessels may carry persons on the legitimate business of the vessel⁶ in addition to the crew, as restricted by the definition of passenger.⁷
Key to symbols used in this table: ≤ means less than or equal to; > means greater than; < means less than; and ≥ means greater than or equal to.
Footnotes:
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171-179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21)(21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “* * * being employed exclusively in instruction in oceanography or limnology, or both, or exclusively in oceanographic research, * * *. Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

Dated: February 22, 2012.
Kathryn A. Sinniger,
Chief, Office of Regulations and Administrative Law, United States Coast Guard.

[FR Doc. 2012-4762 Filed 3-28-12; 8:45 am]

BILLING CODE 9110-04-P